DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by June 16, 2004.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone (404) 679-4176; facsimile (404) 679-7081.

SUPPLEMENTARY INFORMATION: The public is invited to comment on the following applications for permits to conduct certain activities with endangered species. If you wish to comment, you may submit comments by any one of the following methods. You may mail comments to the Service's Regional Office (see ADDRESSES section) or via electronic mail (e-mail) to “victoria_davis@fws.gov”. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Florida Power & Light Company, Florida Power & Light Turkey Point Power Plant, James Robert Lindsay, Juno Beach, Florida, TE084921-0.

The applicant requests authorization to take (capture, identify, examine, measure, weigh, permanently mark, tag, sex, manipulate water temperatures, use spotlights, transport, translocate) the American Crocodile while conducting population and habitat monitoring and management. The proposed activities would take place on the shore of Biscayne Bay, Miami-Dade County, Florida.

Applicant: Brian A. Estes, GeoSyntec Consultants, Inc., Atlanta, Georgia, TE087127-0.

The applicant requests authorization to take (capture, identify, photograph, release) the following species: Blue shiner (Cyprinella caerulea), Etowah darter (Etheostoma etowahae), Cherokee darter (Etheostoma scotti), amber darter (Percina antesella), goldline darter (Percina aurolineata), Conasauga logperch (Percina jenkinsi), snail darter (Percina tanasi), and eastern indigo snake (Drymarchon corais couperi). The activities would take place while conducting presence and absence studies. The proposed activities would occur in the State of Georgia.

Applicant: Jeanette Wyneken, Florida Atlantic University, Boca Raton, Florida TE087169-0.

The applicant requests authorization to take (capture and sacrifice) six leatherback sea turtles (Dermochelys coriacea) while conducting studies of retinal physiology (spectral sensitivity to light). The activities would take place at Florida Atlantic University, Boca Raton, Palm Beach County, Florida.

Applicant: Sandhills Ecological Institute, Kerry B. Sadler, Southern Pines, North Carolina TE087191-0.

The applicant requests authorization to take (capture, band, release, and monitor nests) of the red-cockaded woodpecker (Picoides borealis) while conducting population monitoring and management. The proposed activities would take place in the North Carolina Sandhills, including Moore, Hoke, Cumberland, Richmond, and Scotland Counties, North Carolina.

Applicant: Goethe State Forest, Florida Division of Forestry, Elizabeth G. Zimmerman, TE087194-0.

The applicant requests authorization to take (harass, capture, band, translocate, install artificial cavity inserts, drill starts) red-cockaded woodpeckers (Picoides borealis) while conducting population monitoring and management. The proposed activities would take place on Goethe State Forest, Levy County, Florida.

Applicant: James Edwin Moyers, St. Joe Timberland Company, Panama City, Florida, TE087199-0.

The applicant requests authorization to take (capture, identify, exam, measure, clip toe, and release) the Choctawhatchee beach mouse (Peromyscus polionotus allophres) and St. Andrew beach mouse (Peromyscus polionotus peninsularis) while conducting live-trapping to assess population presence/absence and population status. The proposed activities would occur in Walton, Bay, and Gulf Counties, Florida.

Dated: May 5, 2004.
Cynthia K. Dohner,
Acting Regional Director.

[FR Doc. 04-11077 Filed 5-14-04; 8:45 am]

BILLING CODE 4310-55-P